DEPARTMENT OF COMMERCE

Patent and Trademark Office

Practitioner Records Maintenance, Disclosure, and Discipline Before the United States Patent and Trademark Office

ACTION: Proposed collection; comment request.

SUMMARY: The United States Patent and Trademark Office (USPTO), as part of its continuing effort to reduce paperwork and respondent burden, invites the general public and other Federal agencies to take this opportunity to comment on the revision of a continuing information collection, as required by the Paperwork Reduction Act of 1995, Public Law 104-13 (44 U.S.C. 3506(c)(2)(A)).

DATES: Written comments must be submitted on or before May 21, 2010.

ADDRESSES: You may submit comments by any of the following methods:

• E-mail: Susan.Fawcett@uspto.gov. Include A0651-0017 Practitioner Records Maintenance, Disclosure and Discipline Before the United States Patent and Trademark Office comment@ in the subject line of the message.

• Fax: 571-273-0112, marked to the attention of Susan K. Fawcett.

• Mail: Susan K. Fawcett, Records Officer, Office of the Chief Information Officer, United States Patent and Trademark Office, P.O. Box 1450, Alexandria, VA 22313-1450.

• Federal Rulemaking Portal: http://www.regulations.gov

FOR FURTHER INFORMATION CONTACT: Requests for additional information should be directed to the attention of Christine Nucker, Enrollment and Discipline Administrator, United States Patent and Trademark Office, Mail Stop OED, P.O. Box 1450, Alexandria, VA 22313-1450; by telephone at 571-272-6071; or by e-mail to Christine.Nucker@uspto.gov.

SUPPLEMENTARY INFORMATION:

I. Abstract

The Director of the United States Patent and Trademark Office (USPTO) has the authority to establish regulations governing the conduct and discipline of agents, attorneys, or other persons representing applicants and other parties before the USPTO (35 U.S.C. 2, 32 and 33). The USPTO Code of Professional Responsibility (37 CFR 10.20 to 10.112) describes how attorneys or practitioners should conduct themselves professionally and outlines their responsibilities for recordkeeping and reporting violations or complaints of misconduct to the USPTO, while the Investigations and Disciplinary Proceedings rules (37 CFR 11.19 to 11.61) dictate how the USPTO can discipline attorneys and practitioners.

The USPTO Code of Professional Responsibility requires an attorney or agent to maintain complete records of all funds, securities, and other properties of clients coming into his or her possession, and to render appropriate accounts to the client regarding the funds, securities, and other properties. These recordkeeping requirements are necessary to maintain the integrity of client property. Each State Bar requires its attorneys to perform similar record keeping.

The Code also requires an attorney or agent to report knowledge of certain violations of the Code to the USPTO. If the complaint is found to have merit, the USPTO will investigate and possibly prosecute violations of the Code. The Director of the Office of Enrollment and Discipline (OED) may, after notice and opportunity for a hearing, suspend, exclude, or disqualify any practitioner from further practice before the USPTO based on noncompliance with the regulations.

Practitioners who have been excluded or suspended from practice before the USPTO must keep and maintain records of their steps to comply with the suspension or exclusion order. These records serve as the practitioner's proof of compliance with the order.

II. Method of Collection

By mail, facsimile, or hand delivery to the USPTO when an individual is required to participate in the information collection.

III. Data

OMB Number: 0651-0017.

Form Number(s): There are no forms associated with this collection.

Type of Review: Revision of a currently approved collection.

Affected Public: Individuals or households; businesses or other for profits; not-for-profit institutions.

Estimated Number of Respondents: 635 responses.

Estimated Time per Response: The USPTO estimates that it will take the public approximately 2 to 40 hours, depending upon the complexity of the situation, to gather the necessary information, maintain the required records, prepare the complaint, and submit the various documents in this information collection to the USPTO.

Estimated Total Annual Respondent Burden Hours: 12,330 hours.

Estimated Total Annual Respondent Cost Burden: $1,275,120. At $100 per hour for a para-professional/clerical worker, the USPTO estimates $1,197,000 per year for salary costs associated with respondents for the recordkeeping requirements in this collection. For complaint/violation reporting, the USPTO predicts that half of the complaints will be filed by practitioners and that the remaining complaints will be split evenly between non-legal professionals and semi-professionals or skilled trades persons. The USPTO estimates that it will cost practitioners $325 per hour, non-legal professionals $156 per hour, and semi-professionals or skilled trades persons $60 per hour to submit a complaint, for a weighted average rate of $217 per hour. Considering these factors, the USPTO estimates $78,120 per year for salary costs associated with filing a complaint, for a total annual respondent cost burden of $1,275,120 per year.

Item | Estimated time for response (in hours) | Estimated annual responses | Estimated annual burden hours
Recordkeeping Maintenance (including financial books and records such as trust accounts, fiduciary accounts, operating accounts, and advertisements) | 26 | 445 | 11,570
Recordkeeping Maintenance Under Suspension or Exclusion from the USPTO | 40 | 10 | 400
Complaint/Violation Reporting | 2 | 180 | 360
Total |  | 635 | 12,330

Estimated Total Annual (Non-hour) Respondent Cost Burden: $487. There are no capital start-up costs, maintenance costs or filing fees associated with this information collection. There are, however, postage costs.

The public may submit the complaints in this collection to the USPTO by mail through the United States Postal Service. If these documents are sent by first-class mail, a certificate of mailing for each piece of correspondence, stating the date of deposit or transmission to the USPTO, may also be included. The USPTO expects that 180 complaints will be mailed to the USPTO with first-class postage, with 50% or 90 complaints weighing 2 ounces at an average cost of 61 cents for a total of $55; and 50% or 90 complaints weighing 1 pound at an average cost of $4.80 for a total of $432. Therefore, this information collection has a total of $487 in annual (non-hour) respondent cost burden.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they will also become a matter of public record.

Dated: March 16, 2010.
Susan K. Fawcett,
Records Officer, USPTO, Office of the Chief Information Officer.

[FR Doc. 2010-6312 Filed 3-22-10; 8:45 am]

BILLING CODE 3510-16-P